DEPARTMENT OF HEALTH AND HUMAN SERVICES

National Institutes of Health

National Human Genome Research Institute; Amended Notice of Meeting

Notice is hereby given of a change in the meeting of the National Advisory Council for Human Genome Research, June 18, 2025, from 12:00 p.m. to 04:00 p.m., National Institutes of Health, 6700B Rockledge Drive, Bethesda, MD 20892 which was published in the Federal Register on April 30, 2025, 90 FR 17940.

The meeting is amended to update the virtual attendance access link. Use the following link to attend the meeting virtually: https://videocast.nih.gov/watch=56826. The meeting will be open to the public and will be held in person and virtually.

Dated: June 6, 2025.
David W. Freeman,
Supervisory Program Analyst, Office of Federal Advisory Committee Policy.

[FR Doc. 2025-10691 Filed 6-11-25; 8:45 am]

BILLING CODE 4140-01-P